ENVIRONMENTAL PROTECTION AGENCY

[ER-FRL-6620-2]

Environmental Impact Statements and Regulations: Availability of EPA Comments

Availability of EPA comments prepared pursuant to the Environmental Review Process (ERP), under Section 309 of the Clean Air Act and Section 102(2)(c) of the National Environmental Policy Act as amended. Requests for copies of EPA comments can be directed to the Office of Federal Activities AT (202) 564-7167.

An explanation of the ratings assigned to draft environmental impact statements (EISs) was published in FR dated April 14, 2000 (65 FR 20157).

Draft EISs

ERP No. D-AFS-E65056-FL Rating LO, Ocklawaha River Restoration Project, Continued Occupation of Florida National Forest Lands, Portions of Kirkpatrick Dam, Rodman Reservoir and Eureka Lock and Dam in Conjunction with Partial Restoration of the Ocklawaha River, Operation and Maintenance, Permit Issuance and Implementation, Marion and Putnam Counties, FL.

Summary: EPA has not identified any potential environmental impacts requiring substantive changes to the proposal. The temporary impacts caused by the release of nutrients should not be a factor in delaying project implementation.

ERP No. D-AFS-J65343-MT Rating EC2, North Elkhorns Vegetation Project, Elkhorn Wildlife Management Unit, Implementation, Strawberry Butte Area, Helena National Forest, Jefferson County MT.

Summary: EPA expressed environmental concerns with the limited range of alternatives evaluated and asked for additional explanation and additional alternatives analysis. Of the two action alternatives presented EPA favored logging during winter on snow to reduce erosion and sediment transport. EPA requests that the final EIS provide information regarding impacts to wetlands and air quality impacts to fully assess and mitigate all potential impacts.

ERP No. D-AFS-L65382-ID Rating NS, Meadow Face Stewardship Pilot Project, Implementation, Nez Perce National Forest, Clearwater Ranger District, Idaho County, ID.

Summary: EPA Region 10 used a screening tool to conduct a limited review of this action. Based upon this screen, EPA does not foresee having any environmental objections to the proposed project. Therefore, EPA will not be conducting a detailed review.

ERP No. D-BLM-K65340-NV Rating EC2, Reno Clay Plant Project, Construct and Operate an Open-Pit Clay Mine and Ore Processing Facility, Plan-of-Operations, Oil-Dri Corporation of Nevada, Hungry Valley, Washoe County, NV.

Summary: EPA expressed concerns regarding potential impacts to air and water quality, soils, vegetation, wildlife, and cultural resources; and recommended that the FEIS include additional information regarding these impacts, mitigation measures to reduce or offset impacts, and bonding.

ERP No. D-FRC-C05147-NY Rating EC2, Upper Hudson River Hydroelectric Project, Relicensing the E.J. West Project (FERC-No. 2318-002), Stewart Bridge Project (FERC-No. 2047-004), Hudson River Project (FERC-No. 2482-014) and Feeder Dam Hydroelectric Project (FERC-No. 2554-003), Saratoga, Fulton and Hamilton Counties, NY.

Summary: EPA expressed concerns regarding potential impacts to aquatic resources and wetlands. EPA also requested additional information on alternatives and the consultation process with tribal nations.

ERP No. D-HUD-K81026-CA Rating EC2, West Hollywood Gateway Project, Constructing from Santa Monica Boulevard, Romaine Street LaBrea Avenue and Formosa Avenue, Public/Private Partnership, City of West Hollywood, Los Angeles County, CA.

Summary: EPA expressed concerns, and requested additional information regarding: impacts to traffic and air quality in the region, proposed traffic mitigation measures and environmental justice impacts.

ERP No. D-USA-E11049-KY Rating EC1, U.S. Army Armor Center and Fort Knox Northern Training Complex, Construction and Operation of a Multi-Purpose Digital Training Ranger and a Series of Maneuver Areas, Drop and Landing Zones, Fort Knox, KY.

Summary: Environmental concerns result from off- and on-post impacts attendant to the increased intensity/duration of proposed training upgrades. Army will have to work with local entities to mitigate adverse effects on encroaching residential/commercial development.

ERP No. D2-AFS-J65143-00 Rating E02, Flat Canyon Federal Coal Lease Tract (UTU-77114), Application for Leasing, Manit-La Sal National Forest, Ferron-Price Ranger District, Sanpete and Emery Counties, UT.

Summary: EPA expressed environmental objections with the proposed coal mine expansion which is expected to adversely impact current water quality problems of high salinity, phosphorus and effluent toxicity. Depending on the selected discharge location, the expansion may expand the area of water quality problems into a relatively pristine watershed. Subsidence from the underground mine may also adversely affect fen wetlands and riparian habitat.

Final EISs

ERP No. F-AFS-F61020-MN Boundary Waters Canoe Area Wilderness Fuel Treatment, Implementation, Superior National Forest, Cook, Lake and St. Louis, MN.

Summary: The USFS addressed EPA's concerns in a clearly written FEIS. EPA concurs with the USFS selection of Modified Alternative B in implementing controlled burns in the blowdown area to reduce the risk of wildfires and protect public safety.

ERP No. F-AFS-J65324-WY State of Wyoming School Section 16 T.12N., R.83W., 6th P.M., Issuing a Forest Road Special-Use-Permit for Access, Medicine Bow-Routt National Forests, Brush Creek/Hayden Ranger District, Carbon County, WY.

Summary: No formal comment letter was sent to the preparing agency.

ERP No. F-AFS-K65230-CA Fuels Reduction for Community Protection Phase 1 Project on the Six Rivers National Forest, Proposes to Reduce Fuels High Severity Burned Stands, Lower Trinity Ranger District, Humboldt and Trinity Counties, CA.

Summary: No formal comment letter was sent to the preparing agency.

ERP No. F-AFS-K65359-00 Northern Sierra Amendment to the Toiyabe Land and Resource Management, To Unify and Revise Management Direction, Humboldt-Toiyabe National Forest, Carson Ranger District, Stanislaus National Forest, Lake Tahoe Basin Management Unit, Douglas and Washoe Counties, NV and Alpine and Toulomne Counties, CA.

Summary: No formal comment letter was sent to the preparing agency.

ERP No. F-AFS-L65370-OR South Bend Weigh and Safety Station Establishment, Special Use Permit for Construction, Maintenance and Operation, Deschute National Forest Lands along US 97 near the Newberry National Volcanic Monument, Deschutes County, OR.

Summary: No formal comment letter was sent to the preparing agency.

ERP No. F-NPS-K65209-00 Death Valley National Park General Management Plan, Implementation, Mojave Desert, Inyo and San Bernardino Counties, CA and Nye and Esmeralda Counties, NV.

Summary: No formal comment letter was sent to the preparing agency.

ERP No. F-NPS-K65212-CA Mojave National Preserve General Management Plan, Implementation, San Bernardino County, CA.

Summary: No formal comment letter was sent to the preparing agency.

Dated: July 17, 2001.
Joseph C. Montgomery,
Director, NEPA Compliance Division, Office of Federal Activities.

[FR Doc. 01-18201 Filed 7-19-01; 8:45 am]

BILLING CODE 6560-50-M